DEPARTMENT OF THE INTERIOR

National Park Service

[NPS-WASO-NRSS-EQD-SSB-21662; PPAKGAARC6 PPMPRLE1Z.LS0000 (166)]

Information Collection Request Sent to the Office of Management and Budget (OMB) for Approval; Community Harvest Assessments for Alaskan National Parks, Preserves, and Monuments

AGENCY: National Park Service, Interior.

ACTION: Notice; request for comments.

SUMMARY: We (National Park Service, NPS) are asking the Office of Management and Budget (OMB) to approve the Information Collection Request (ICR) described below. The National Park Service (NPS) is requesting approval of a previously approved collection that will be used to survey subsistence hunters in Alaska. As required by the Paperwork Reduction Act of 1995 and as a part of our continuing efforts to reduce paperwork and respondent burden, we invite the general public and other federal agencies to comment on this ICR. We may not conduct or sponsor, and a person is not required to respond to, a collection of information unless it displays a currently valid OMB Control Number.

DATES: To ensure that your comments on this ICR are considered, OMB must receive them on or before September 7, 2016.

ADDRESSES: Please direct all written comments on this ICR directly to the Office of Management and Budget (OMB) Office of Information and Regulatory Affairs, Attention: Desk Officer for the Department of the Interior, to OIRA_Submission@omb.eop.gov (email) or 202-395-5806 (fax); and identify your submission as 1024-0262 AKHARVEST Please also send a copy of your comments to Phadrea Ponds, Information Collection Coordinator, National Park Service, 1201 Oakridge Drive, Fort Collins, CO 80525 (mail); or phadrea_ponds@nps.gov (email). Please reference Information Collection 1024-0262 AKHARVEST in the subject line.

FOR FURTHER INFORMATION CONTACT: Marcy Okada, Subsistence Coordinator; Gates of the Arctic National Park & Preserve and Yukon-Charley Rivers National Preserve, 4175 Geist Road, Fairbanks, Alaska 99709. Please reference Information Collection Request 1024-0262 AKHARVEST in the subject line. You may also access this ICR at www.reginfo.gov.

I. Abstract

The NPS is requesting to reinstate a previously approved collection (OMB Control Number: 1024-0262) needed to survey Alaska residents who customarily and traditionally engage in subsistence uses within a national park, preserve, or monument. In 2012, a survey was conducted in Wrangell-St. Elias National Park and Preserve (WRST) and Gates of the Arctic National Park and Preserve (GAAR) to understand the effects of subsistence harvesting. This collection intended to collect information in additional Alaskan National Parks, Preserves, and Monuments.

Under the provisions of The Alaska National Interest Lands Conservation Act (ANILCA), subsistence harvests by local rural residents are considered to be the priority consumptive use of park resources. This collection will continue to gather information on subsistence harvest patterns and the impact of rural economy from resident zone communities associated with the following parks, preserves, and monuments: 1) Aniakchak National Monument (ANIA), 2) Bering Land Bridge National Preserve (BELA), 3) Cape Krusenstern National Monument (CAKR), 4) Gates of the Arctic National Park and Preserve (GAAR), 5) Kobuk Valley National Park (KOVA), 6) Noatak National Preserve (NOAT), 7) Wrangell-St. Elias National Park and Preserve (WRST) and 8) Yukon-Charley Rivers National Preserve (YUCH).

The information from this collection will be used by the NPS, the Federal Subsistence Board, the State of Alaska, and local/regional advisory councils in making recommendations and making decisions regarding seasons and harvest limits of fish, wildlife, and plants in the region which communities have customarily and traditionally used.

II. Data

OMB Control Number: 1024-0262.

Title: Community Harvest Assessments for Alaskan National Parks, Preserves, and Monuments.

Type of Request: Reinstatement.

Affected Public: General public; individual households.

Respondent Obligation: Voluntary.

Frequency of Collection: One time.

Estimated Number of Responses: 2,414.

Estimated Annual Burden Hours: 1,353 hours.

Estimated Annual Reporting and Recordkeeping “Non-Hour Cost”: None.

III. Request for Comments

On August 18, 2015, we published a Federal Register notice (80 FR 50026) announcing that we would submit this ICR to OMB for approval. Public comments were solicited for 60 days ending October 19, 2015. We did not receive any comments in response to that notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

A Federal agency may not conduct or sponsor and a person is not required to respond to a collection of information unless it displays a currently valid OMB control number. Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Madonna L. Baucum,
Information Collection Clearance Officer, National Park Service.

[FR Doc. 2016-18727 Filed 8-5-16; 8:45 am]

BILLING CODE 4310-EH-P